NUCLEAR REGULATORY COMMISSION

[NRC-2008-0597]

Notice of Issuance and Withdrawal of Regulatory Guides

AGENCY: Nuclear Regulatory Commission.

ACTION: Notice of Issuance and Availability of Regulatory Guide (RG) 1.69, Revision 1 and withdrawal of RG 2.1.

FOR FURTHER INFORMATION CONTACT: Harriet Karagiannis, Regulatory Guide Development Branch, Division of Engineering, Office of Nuclear Regulatory Research, U.S. Nuclear Regulatory Commission, Washington, DC 20555-0001, telephone (301) 251-7477 or e-mail to Harriet.Karagiannis@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 1 of RG 1.69, “Concrete Radiation Shields and Generic Shield Testing for Nuclear Power Plants,” was issued for public comment with a temporary identification as Draft Regulatory Guide (DG)-1187. RG 1.69 describes a method acceptable to the NRC staff for complying with the regulations with regard to the design and construction of concrete radiation shields in nuclear power plants.

As stated in Title 10, Section 20.1201, “Occupational Dose Limits for Adults,” of the Code of Federal Regulations (10 CFR 20.1201), NRC licensees shall control the occupational dose to individual adults to the limits stated therein. Furthermore, 10 CFR 20.1101(b) provides that licensees shall use, to the extent practicable, procedures and engineering controls based upon sound radiation principles to achieve occupational doses and doses to members of the public that are as low as reasonably achievable. General Design Criterion 1, “Quality Standards and Records,” of Appendix A, “General Design Criteria for Nuclear Power Plants,” to 10 CFR part 50, “Domestic Licensing of Production and Utilization Facilities,” requires that structures, systems, and components important to safety be designed, fabricated, erected, and tested to quality standards commensurate with the importance of the safety function to be performed. Appendix B, “Quality Assurance Criteria for Nuclear Power Plants and Fuel Reprocessing Plants,” to 10 CFR part 50 requires that measures be established to ensure design control and inspection and test controls. Appendix B also requires that activities affecting quality be accomplished under suitably controlled conditions.

Also, RG 1.69 encompasses applicable material previously endorsed in RG 2.1, “Shield Test Program for the Evaluation of Installed Biological Shielding in Research and Training Reactors.” Therefore, RG 2.1 is outdated and it will be withdrawn.

II. Further Information

In November 2008, DG-1187 was published with a public comment period of 60 days from the issuance of the guide. The public comment period closed on January 9, 2009. The staff's responses to the public comments received are located in NRC's Agencywide Documents Access and Management System under Accession No. ML090820436. Electronic copies of RG 1.69, Revision 1 are available through the NRC's public Web site under “Regulatory Guides” at http://www.nrc.gov/reading-rm/doc-collections/.

In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland, this 27th day of May, 2009.
For the Nuclear Regulatory Commission.
R.A. Jervey,
Acting Chief, Regulatory Guide Development Branch, Division of Engineering, Office of Nuclear Regulatory Research.

[FR Doc. E9-13028 Filed 6-3-09; 8:45 am]

BILLING CODE 7590-01-P